DEPARTMENT OF TRANSPORTATION

Federal Highway Administration

Notice of Final Federal Agency Actions on the Frank J. Wood Bridge Project in Maine

AGENCY: Federal Highway Administration (FHWA), DOT.

ACTION: Notice of Limitation on Claims for Judicial Review of Action by FHWA.

SUMMARY: This notice announces an action taken by FHWA and other Federal agencies that are final. The actions relate to the Frank J. Wood Bridge Project located in Cumberland and Sagadahoc Counties, Maine. This action grants approval for the project.

DATES: By this notice, FHWA is advising the public of final agency actions subject to 23 U.S.C. 139(1)(1). A claim seeking judicial review of the Federal agency actions on the highway project will be barred unless the claim is filed on or before September 9, 2019. If the Federal law that authorizes judicial review of a claim provides a time period of less than 150 days for filing such claim, then that shorter time period still applies.

FOR FURTHER INFORMATION CONTACT: Todd D. Jorgensen, Division Administrator, Federal Highway Administration, Edmund S. Muskie Federal Building, 40 Western Avenue, Room 614, Augusta, ME 04330, Telephone (207) 512-4911; or Kristen Chamberlin, Coordination, Assessments, & Permits Division Manager, Maine Department of Transportation, Child Street, 16 State House Station, Augusta, ME 04333-0016, Telephone (207) 557-5089.

SUPPLEMENTARY INFORMATION: Notice is hereby given that FHWA and other Federal agencies have taken final agency actions by issuing licenses, permits, and approvals for the following highway project in the State of Maine: Frank J. Wood Bridge Project (Bridge #2016), which crosses the Androscoggin River. The project proposes to replace the Frank J. Wood Bridge, which connects the town of Brunswick in Cumberland County, and the town of Topsham in Sagadahoc County. The proposed action (Alternative 2) would include a new, multi-span, steel girder replacement bridge on a curved alignment upstream of its existing location. The actions by the Federal agencies, and the laws under which such actions were taken, are described in the Revised Environmental Assessment/Final Section 4(f) Evaluation for the project, approved on February 21, 2019, in the FHWA Finding of No Significant Impact (FONSI) issued on March 12, 2019, and in other documents in the FHWA administrative record. The Revised Environmental Assessment/Final Section 4(f) Evaluation, FONSI, and other documents in the FHWA project file are available by contacting FHWA or the MaineDOT at the addresses provided above. The Revised Environmental Assessment/Final Section 4(f) Evaluation and FONSI can be viewed and downloaded from the project website at: https://www.maine.gov/mdot/env/frankjwood/.

This notice applies to all Federal agency decisions as of the issuance date of this notice and all laws under which such actions were taken, including but not limited to:

1. General: National Environmental Policy Act (NEPA) [42 U.S.C. 4321-4351];

Federal-Aid Highway Act [23 U.S.C. 109 + 23 U.S.C. 128].

2. Air: Clean Air Act [42 U.S.C. 7401-7671(q)] (Transportation Conformity).

3. Land: Section 4(f) of the Department of Transportation Act of 1966 [49 U.S.C. 303].

4. Wildlife: Endangered Species Act [16 U.S.C. 153 1-1544 and Section 1536], Fish and Wildlife Coordination Act [16 U.S.C. 661-667(d)], Migratory Bird Treaty Act [16 U.S.C. 703-712], Marine Mammal Protection Act [16 U.S.C. 1361], Magnuson-Stevens Fishery Conservation and Management Act of 1976, as amended [16 U.S.C. 1801 et seq.].

5. Historic and Cultural Resources: Section 106 of the National Historic Preservation Act of 1966, as amended [54 U.S.C. 306108 et seq.].

6. Social and Economic: Civil Rights Act of 1964 [42 U.S.C. 2000(d)-2000(d)(I)].

7. Water Resources: Coastal Zone Management Act, 16 U.S.C. 1451-1465.

8. Executive Orders: E.O. 11990 Protection of Wetlands; E.O. 11988 Floodplain Management; E.O. 12898, Federal Actions to Address Environmental Justice in Minority Populations and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(1)(1), as amended by Moving Ahead for Progress in the 21st Century Act, (PL 112-141, 126 Stat. 405).

Issued on: April 1, 2019.
Todd D. Jorgensen,
Division Administrator Augusta, Maine.

[FR Doc. 2019-07184 Filed 4-11-19; 8:45 am]

BILLING CODE 4910-RY-P